DEPARTMENT OF TRANSPORTATION

Federal Motor Carrier Safety Administration

National Hazardous Materials Route Registry Revisions and Procedures

AGENCY: Federal Motor Carrier Safety Administration (FMCSA), Department of Transportation (DOT).

ACTION: Notice

SUMMARY: This notice provides the most current revisions to the National Hazardous Materials Route Registry (NHMRR) and procedures to facilitate the update of the NHMRR by State and Tribal government routing agencies. The NHMRR is a listing, as reported by States and Tribal governments, of all designated and restricted road and preferred highway routes for transportation of highway route controlled quantities (HRCQ) of Class 7 radioactive materials (RAM) (HRCQ/RAM) and non-radioactive hazardous materials (NRHMs).

DATES: Effective date: August 8, 2016.

FOR FURTHER INFORMATION CONTACT:

Mr. Vincent Babich (202) 366-4871, or vincent.babich@dot.gov, Hazardous Materials Division, Office of Enforcement and Compliance, Federal Motor Carrier Safety Administration, 1200 New Jersey Ave. SE., Washington, DC 20590. Office hours are from 9 a.m. to 5 p.m., E.T., Monday through Friday, except for Federal holidays.

SUPPLEMENTARY INFORMATION:

Background

Paragraphs (a)(2) and (b) of section 5112 of title 49, United States Code (U.S.C.) permit States and Tribal governments to designate and limit highway routes over which HRCQ/RAM and NRHM may be transported, provided that the State or Tribal government complies with standards prescribed by the Secretary of Transportation (the Secretary) and meets publication requirements in section 5112(c). To establish standards under paragraph (b), the Secretary must consult with the States, and, under section 5112(c), coordinate with the States to publish periodically a list of currently effective HRCQ/RAM and NRHM highway routing designations and restrictions. The requirements that States and Tribal governments must follow to establish, maintain, or enforce routing designations for the transport of placardable quantities of NRHM are set forth in 49 CFR part 397, subpart C. Subpart D of part 397 sets out the requirements for designating preferred routes for HRCQ/RAM shipments as an alternative, or in addition, to Interstate System highways. For HRCQ/RAM shipments, § 397.101 defines a preferred route as an Interstate Highway for which no alternative route is designated by the State; a route specifically designated by the State; or both. See § 397.65 for the definition of “NRHM” and “routing designations.”

Under a delegation from the Secretary,¹ FMCSA has authority to implement 49 U.S.C. 5112.

¹ 49 CFR 1.87(d)(2).

Currently, 49 CFR part 397, subpart C, (Routing of NRHM) and subpart D (Routing of Class 7 RAM) address the routing requirements and procedures that State and tribal government are required to follow. Section 397.73 establishes public information and reporting requirements for NRHM. States or Tribal governments are required to furnish information regarding any new or changed routes to FMCSA within 60 days after establishment. Under 49 CFR 397.103, a State routing designation for HRCQ/RAM routes (preferred routes) as an alternative, or in addition, to an Interstate System highway, is effective when the authorized routing agency provides FMCSA with written notification, FMCSA acknowledges receipt in writing, and the route is published in FMCSA's Hazardous Material Route Registry. The Office of Management and Budget has approved these collections of information under control number 2126-0014, Transportation of Hazardous Materials, Highway Routing. This notice serves only to provide the most current updates to the NHMRR, and to communicate to States and Tribal government routing agencies procedures to facilitate timely reporting and efficient update of the NHMRR as required by 49 U.S.C. 5112 and 49 CFR part 397; it does not establish any new public information and reporting requirements.

Procedural Changes

Section 33013 of the Moving Ahead for Progress in the 21st Century Act of 2012 (MAP-21) [Pub. L. 112-141, July 6, 2012, 126 Stat. 405, 839] amended 49 U.S.C. 5112(c), which addresses the form, manner, and timetable for State and Tribal Governments to issue and update routing information for commercial motor vehicles transporting hazardous material in commerce for which DOT regulations require placarding of the vehicle .In October 2014, FMCSA published a Technical Amendments Rule that included amendments to 49 CFR 397.69 to address section 33013 of the statute [79 FR 59450; October 2, 2014]. Among the amendments was a State reporting requirement to include the name of the agency responsible for the highway route designations, and another to clarify that any State- or Tribal-government-designated route is effective only after publication in the NHMRR. This notice further addresses the form and manner for updating this information by establishing a procedure for updating the NHMRR in accordance with the statute and regulations.

Updates to the NHMRR

The most up-to-date version of the NHMRR, was published in the Federal Register on April 29, 2015 (80 FR 23860) and can be accessed on the internet at: http://www.fmcsa.dot.gov/regulations/hazardous-materials/national-hazardous-materials-route-registry. Further, this Web page provides a link to http://www.fmcsa.dot.gov/regulations/hazardous-materials/national-hazardous-materials-route-registry-state which provides the Route Registry listing of each individual State and Tribal government as well as information on the official routing agency. This information, available for use by the routing agencies as well as the general public, is presented, in three formats; a spreadsheet, a PDF file, and as available, an interactive map. In addition, FMCSA has established an internet mailbox at hmrouting@dot.gov to facilitate communication with routing agencies.

While the route designation reporting requirements of 49 CFR 397.73 and 397.103 do not provide a specific procedure to follow whenever there is change in routing designations, the FMCSA is providing the following procedure to facilitate State and Tribal government routing agencies in updating their Route Registry listing:

1. From http://www.fmcsa.dot.gov/regulations/hazardous-materials/national-hazardous-materials-route-registry-state, open the appropriate Route Registry spreadsheet for your jurisdiction.

2. Modify the spreadsheet as necessary following the instructions on the Web page and the spreadsheet.

3. Revisions made to the spreadsheet cannot be saved directly to the Web page. The revised spreadsheet must be saved to a different location.

4. Forward the revised spreadsheet file as an attachment to an email to hmrouting@dot.gov; Or forward a printout of the revised spreadsheet via certified mail (return receipt requested) to FMCSA, Office of Enforcement and Compliance (MC-EC), 1200 New Jersey Ave. SE., Washington, DC 20590-0001. Attention: National Hazardous Materials Route Registry.

5. FMCSA will acknowledge via email the receipt of all changes received via the “HM Routing” internet mailbox.

6. FMCSA will publish the revisions as a Notice in the Federal Register and incorporate the revisions, as applicable, into the appropriate State or Tribal Government Route Register spreadsheet, PDF file, and map posted on the National Hazardous Materials Route Registry Web page.

Revisions to the National Hazardous Materials Route Registry

Since FMCSA published the NHMRR in a Notice on April 29, 2015 (80 FR 23860), the State of California has notified the FMCSA of the following revisions to their Route Registry:

Table 16.—California—Restricted HM routes

Route Order designator “I” is revised.

Table 1.—California—Designated HRCQ/RAM routes

Route Order designator “A” is revised.

Route Order designator “B1” is revised.

Route Order designator“B2” is revised.

Route Order designator “F1” is revised.

Route Order designator “B6A-2.0-A is added and assigned a “P” designation.

Route Order designator “H” is added and assigned a “P” designation.

In accordance with the requirements of 49 CFR 397.73 and 397.103, the Route Registry listings for the State of California, as published in Tables 16 and 17 are being revised. The following revised tables reflect the most current Route Registry listings for the State of California and supersede and replace the corresponding tables of the April 29, 2015 notice. The changes to the listings contained in the following tables are also reflected in the information posted on the internet at http://www.fmcsa.dot.gov/regulations/hazardous-materials/national-hazardous-materials-route-registry. No other States submitted changes.

Table 2—California—Restricted HM Routes
Designation date | Route order | Route description | City | County | Restriction(s) (0,1,2,3,4,5,6,7,8,9,i)
10/28/92 | A | No person shall drive or permit the driving of any vehicle transporting commodities listed in Section 13 CCR 1150 upon any highway not designated by this article. For pickup and delivery not over designated routes, the route selected must be the shortest-distance route from the pickup location to the nearest designated route entry location, and the shortest-distance route to the delivery location from the nearest designated route exit location |  |  | 1
01/01/95 | B | State 75 [Coronado Toll Bridge] from Mile Post 20.28 to Mile Post R22.26 Junction 5 [San Diego County] No flammables/corrosives or explosives on Coronado Bay Bridge (otherwise route is terminal access) | San Diego | San Diego | 1,2,3,4
06/29/00 | C | Sepulveda Blvd. [tunnel] from Interstate 105/Imperial Highway to W. Century Blvd. [Restriction for Tank Vehicles] | Los Angeles | Los Angeles | 1,2,3,4,5,6,8
10/28/92 | D | State 118 from State 232 [Oxnard] to Los Angeles [western county line] |  |  | 1
01/01/95 | E | State 154 from State 246 [MP 8.11—Santa Ynez] to US 101 [near Los Olivos] No hazardous materials or waste except pickup and delivery (otherwise, from R8.11 to R9.97 is Terminal Access and from R9.97 to 32.29 is California Legal) |  | Santa Barbara | 0
1968 | F | Monterey Traffic Underpass from Washington St. to Lighthouse Ave. [Alternate route: Pacific St. to Del Monte Ave.] | Monterey | Monterey | 0
03/26/13 | G | State 1 Tom Lantos Tunnel (Devil's Slide Tunnel) No explosives (Class 1), flammable gases (Division 2.1), or flammable and combustible liquids (Class 3) | Pacifica | San Mateo | 1, 2, 3
01/01/95 | H | State 84 from State 238/Mission Blvd. [MP 10.83—Fremont] to Interstate 680 [Sunol] Trucks restricted from transporting hazardous materials and waste due to adjacent drinking water source (otherwise, route is Advisory 32) |  | Alameda | 0
02/25/95 | I | US 101/Golden Gate Bridge [Bridge escort required. No vehicles transporting explosives are permitted on the bridge between 6:30-9:30 and 16:00-19:00 on weekdays] |  | San Francisco | 1
01/01/95 | J | Interstate 80—SF-Oakland Bay Bridge from Mile Post 4.92 [San Francisco] to Mile Post 2.20 [Alameda County] No flammable tank vehicles or explosives on SF-Oakland Bay Bridge (otherwise, route is National Network) | San Francisco |  | 1, 2, 3, 4
01/01/95 | K | State 260 from Atlantic Ave. [MP R0.62—Alameda] to Interstate 880 [MP R1.92—Oakland] [Eastbound Webster St. Tube & Westbound Posey Tube] Trucks restricted from transporting hazardous materials and waste through Webster and Posey Tubes (otherwise, route is California Legal) |  | Alameda | 0
01/01/95 | L | State 24 [Caldecott Tunnel] from Mile Post R5.89 [Alameda County] to Mile Post R0.35 [Contra Costa County] [Transportation of an explosive substance, flammable liquid, liquefied petroleum gas, or poisonous gas in a tank truck, trailer, or semi-trailer is allowed through the tunnel only between the hours of 3:00 AM and 5:00 AM.] Otherwise route is National Network |  |  | 1, 2, 3
10/28/92 | M | Tennessee St. from Mare Island Way to Columbus Way | Vallejo | Solano | 1
01/01/95 | N | State 20 from State 29 [MP 8.32—Upper Lake] to State 53 [MP 31.62—Clearlake Oaks] [No vehicles transporting hazardous materials or waste due to adjacent waters (otherwise, route is terminal access).] |  | Lake | 0

Table 3—California—Designated HRCQ/RAM Routes
Designation date | Route order | Route description | City | County | Designation(s) (A,B,I,P) | FMCSA QA comment
10/19/94 | A | SR 905 from Mexican Border to Interstate 805 |  |  | P | This route will be considered by the California Highway Patrol for updates in a future rulemaking.
10/19/94 | B1 | Interstate 805 from Interstate 5 [north of the City of San Diego] to State Route 905 |  | San Diego | P | This route will be considered by the California Highway Patrol for updates in a future rulemaking.
10/19/94 | B2 | Interstate 5 from State 78 [MP 51—Carlsbad] to Interstate 8 |  |  | P |
10/19/94 | B2A | Interstate 15 from State 163 to Interstate 8 | San Diego | San Diego | P |
10/19/94 | B2B | Interstate 8 from Arizona to Interstate 5 [San Diego] |  |  | P |
10/19/94 | B3 | Interstate 5 from Interstate 405 [MP 93—Irvine] to State 78 [MP 78—Carlsbad] |  |  | P |
10/19/94 | B3A | Interstate 15 from State 60 [Mira Loma] to State 163 [San Diego] |  |  | P |
10/19/94 | B4 | Interstate 5 from Interstate 605 [MP 123—Santa Fe Springs] to Interstate 405 [MP 93—Irvine] |  |  | P |
10/19/94 | B4A | Interstate 15 from Nevada border to State 60 [Mira Loma] |  |  | P |
10/19/94 | B5 | Interstate 605 from Interstate 210 [Duarte] to Interstate 5 [Santa Fe Springs] |  | Los Angeles | P |
10/19/94 | B5A-1.0 | Interstate 40 from Arizona to Interstate 15 [Barstow] |  |  | P |
10/19/94 | B6A-1.0 | Interstate 10 from Arizona to Interstate 605 [Baldwin Park] |  |  | P |
10/19/94 | B6A-2.0 | Interstate 210 from Interstate 5 [Sylmar] to State 57 [Glendora] |  | Los Angeles | P |
04/01/14 | B6A-2.0A | State Route 57 from Interstate 210 to Interstate 10 |  |  | P |
10/19/94 | B7A-2.0 | Interstate 5 from Oregon [MP 796] to Interstate 210 [MP 160—Sylmar] |  |  | P |
10/19/94 | C1 | Interstate 280 from Interstate 680 [in San Jose] to Interstate 380 [in San Francisco] |  |  | P |
10/19/94 | C2 | Interstate 680 from Interstate 80 [Cordelia Junction, Fairfield] to Interstate 280 [San Jose] |  |  | P |
10/19/94 | D1 | Interstate 880 from Interstate 980 [Oakland] to Interstate 238 [San Leandro] |  | Alameda | P |
10/19/94 | D2A | Interstate 980 from Interstate 580 to Interstate 880 | Oakland | Alameda | P |
10/19/94 | E | Interstate 238 from Interstate 580 [Ashland] to Interstate 880 [San Leandro] |  | Alameda | P |
10/19/94 | F1 | Interstate 580 from Interstate 5 to Interstate 238 |  |  | P |
10/19/94 | F2A | Interstate 205 from Interstate 5 [Lanthrop] to Interstate 580 [Alameda County]” |  |  | P |
10/19/94 | G | Interstate 80 from Nevada to Interstate 580 [north of Oakland] |  |  | P |
04/01/14 | H | Interstate 505 from Interstate 5 to Interstate 80 |  |  | P |

Issued on: July 23, 2016.
T.F. Scott Darling, III,
Administrator.

[FR Doc. 2016-18729 Filed 8-5-16; 8:45 am]

BILLING CODE 4910-EX-P